COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add a product and services to the Procurement List that will be furnished by nonprofit agencies employing persons who are blind or have other severe disabilities.

DATES: Comments Must Be Received on or Before: 12/20/2015.

ADDRESSES: Committee for Purchase From People Who Are Blind or Severely Disabled, 1401 S. Clark Street, Suite 715, Arlington, Virginia 22202-4149.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

NSN—Product Name: 6135-01-446-8310—1.5V Alkaline Nonrechargeable Battery

Mandatory Source of Supply: Eastern Carolina Vocational Center, Inc., Greenville, NC

Contracting Activity: Defense Logistics Agency Land and Maritime, Columbus, OH

Mandatory Purchase for: Total Government Requirement

Distribution: A-List

Services

Service Type: Custodial Service

Service is Mandatory for: US Air Force, 452 Air Mobility Wing, March Air Reserve Base, CA

Mandatory Source of Supply: CW Resources, Inc., New Britain, CT

Contracting Activity: 452 Operational Contracting Office, March ARB, CA

Service Type: Custodial Service

Service is Mandatory for: US Air Force, Area C, Wright Patterson Air Force Base, OH

Mandatory Source of Supply: Goodwill Easter Seals Miami Valley, Dayton, OH

Contracting Activity: FA8601 AFLCMC PZIO, Wright Patterson AFB, OH

Patricia Briscoe,
Deputy Director, Business Operations, (Pricing and Information Management).

[FR Doc. 2015-29653 Filed 11-19-15; 8:45 am]

BILLING CODE 6353-01-P